POSTAL SERVICE

39 CFR Parts 111 and 121

Nomenclature Change Relating to the Network Distribution Center Transition

AGENCY: Postal Service™.

ACTION: Final rule.

SUMMARY: The Postal Service is revising Mailing Standards of the United States Postal Service, Domestic Mail Manual (DMM®) and other related manuals and publications, pursuant to the ongoing transition of USPS® bulk mail centers (BMC) to network distribution centers (NDC), by replacing all text references to “BMC” with “NDC” concurrent with other DMM revisions scheduled for March 2010. The Postal Service is planning to issue DMM Issue 300 in May 2010, containing all DMM revisions from May 11, 2009 through the May 2010 issue date. The changes to the DMM described in this document will be reflected in that Issue 300 of the DMM. We are similarly revising our regulations in Part 121 of Title 39, Code of Federal Regulations, to reflect the BMC to NDC terminology change.

DATES: Effective Date: March 14, 2010.

FOR FURTHER INFORMATION CONTACT: Kevin Gunther at 202-268-7208 or Shibani Gambhir at 202-268-6256.

SUPPLEMENTARY INFORMATION: Background: The BMC network was established in the 1970s to process Parcel Post®, Bound Printed Matter, Media Mail®, Standard Mail® and Periodicals. Fluctuations in volume and changes in the mailing habits of the public and large mailers have necessitated changes to the USPS business model relative to BMC processing and transportation. To fully utilize our existing BMC facilities and consolidate transportation, we are changing our mail flow processes through the new NDC network. As part of this change, we are converting BMCs to NDCs. We began implementation of the NDC concept in May 2009 and this transition continues to date.

The Postal Service is taking another step towards the implementation of the NDC concept by effecting the name change, from BMC to NDC, within the DMM, other related manuals and publications, and postage statements. This revision will be limited to the change in nomenclature only. There will be no changes to mailing standards, service standards, or USPS processes resulting from this action. The Postal Service expects to be proposing changes to the standards surrounding the preparation, entry, and deposit of mailpieces pursuant to final implementation of the NDC concept. Any such changes will be the subject of future Federal Register notices.

As a reminder, on August 3, 2009, the Postal Service changed all of its applicable labeling lists to effect the name change from BMC to NDC. At that time, mailers were provided a 73-day transitional period to make the changes to their software applications. Mailers are now urged to review their operations to assure that these software changes have been made.

One of these nomenclature changes will update the description of the “BMC Presort” (or “BMC PRSRT”) and “OBMC Presort” (or “OBMC PRSRT”) price markings, for Parcel Select® mailpieces, in DMM 402.2.5.2. Mailers will be required to change these markings to “NDC Presort” (or “NDC PRSRT”) and “ONDC Presort” (or “ONDC PRSRT”) respectively. Mailers will also be required to make changes to the human-readable content line, corresponding to the content identifier number (CIN), of those sack and tray labels bearing a BMC reference, as displayed in DMM Exhibit 708.6.2.4, 3-Digit Content Identifier Numbers. Similar to the period allowed for changes to labeling lists, mailers will be provided a 73-day transitional period, from March 14, 2010, with an effective date of May 26, 2010, to make changes to their software applications.

With this action, the Postal Service will be revising the text of the DMM, including all applicable Publication 95, Quick Service Guide, and Notice 123, Price List, references as follows:

Current text | Revised text
Bulk Mail Center | Network Distribution Center.
BMC | NDC.
Destination Bulk Mail Center | Destination Network Distribution Center.
DBMC | DNDC.
Origin Bulk Mail Center | Origin Network Distribution Center.
OBMC | ONDC.
Return Bulk Mail Center | Return Network Distribution Center.
RBMC | RNDC.

In addition, we are revising the caption title of 39 CFR 121.1 to correctly capitalize the term “First-Class Mail.”

The Postal Service adopts changes to Mailing Standards of the United States Postal Service, Domestic Mail Manual (DMM), incorporated by reference in the Code of Federal Regulations. See 39 CFR 111.1. The Postal Service also amends 39 CFR Part 121.

List of Subjects in 39 CFR Part 111 and 121

Administrative practice and procedure, Postal Service.

Accordingly, 39 CFR Part 111 and 121 are amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3633, and 5001.

[The USPS will process a global name substitution from “Bulk Mail Center” to “Network Distribution Center,” from “BMC” to “NDC,” from “Destination Bulk Mail Center” to “Destination Network Distribution Center,” from “DBMC” to “DNDC,” from “Origin Bulk Mail Center” to “Origin Network Distribution Center,” from “OBMC” to “ONDC,” from “Return Bulk Mail Center” to “Return Network Distribution Center,” and from “RBMC to RNDC;” revising Mailing Standards of the United States Postal Service, Domestic Mail Manual (DMM) effective March 14, 2010. These revisions will not be separately itemized as a part of this document.]

PART 121—SERVICE STANDARDS FOR MARKET-DOMINANT MAIL PRODUCTS

2. The authority citation for 39 CFR Part 121 continues to read as follows:

Authority: 5 U.S.C. 552(a); 39 U.S.C. 101, 401, 403, 404, 1001, 3691.

3. In § 121.1, revise the section heading to read as set forth below:

§ 121.1 First-Class Mail.

* * * * *

4. In § 121.2, revise paragraphs (b)(3) and (b)(4) to read as follows:

§ 121.2 Periodicals.

(b) * * *

(3) Periodicals that qualify for a Destination Network Distribution Center containerized rate, that are accepted before the day-zero Critical Entry Time at the proper destination NDC in the contiguous 48 states, and that are addressed for delivery in the contiguous 48 states, have a service standard of 1 or 2 days, corresponding to the standard for mail qualifying for the destination ADC rate, based on whether the destination ADC and SCF are in the same building.

(4) Periodicals that qualify for a Destination Network Distribution Center containerized rate, that are accepted before the day-zero Critical Entry Time at the proper destination NDC in the 48 contiguous states, and that are addressed for delivery in the states of Alaska or Hawaii, or the territories of Guam, Puerto Rico, or the U.S. Virgin Islands, have a service standard of 5 to 8 days, corresponding to the standard for mail qualifying for the destination ADC rate, which is based on the number of days required for transportation outside of the 48 contiguous states and whether the destination ADC and SCF are in the same building.

* * * * *

5. In § 121.3, revise paragraphs (a)(3), (b)(4), and (b)(5) to read as follows:

§ 121.3 Standard Mail.

(a) * * *

(3) The service standard for intra-Network Distribution Center (NDC) Standard Mail pieces accepted at origin before the day-zero Critical Entry Time is 5 days for each remaining 3-digit ZIP Code origin-destination pair within the same Network Distribution Center service area if the origin and destination are within the contiguous 48 states; the same standard applies to mail that is intra-Alaska, intra-Hawaii, or between the state of Hawaii and the territory of Guam.

* * * * *

(b) * * *

(4) Standard Mail pieces that qualify for a Destination Network Distribution Center (DNDC) rate, and that are accepted before the day-zero Critical Entry Time at the proper DNDC have a 5-day service standard, if both the origin and the destination are in the 48 contiguous states.

(5) Standard Mail pieces that qualify for a Destination Network Distribution Center (DNDC) rate, and that are accepted before the day-zero Critical Entry Time at the proper DNDC in the contiguous 48 states for delivery to addresses in the states of Alaska or Hawaii or the territories of Guam, Puerto Rico, or the U.S. Virgin Islands, have a service standard of either 9 or 10 days, depending on the 3-digit origin-destination ZIP Code pair. For each such pair, the applicable day within the range is based on the number of days required for transportation outside of the 48 contiguous states.

6. In § 121.4, revise paragraphs (a)(2), (a)(3), (a)(6), (b)(3) and (b)(4) to read as follows:

§ 121.4 Package Services.

(a) * * *

(2) The service standard for intra-Network Distribution Center (NDC) Package Services mail accepted at origin before the day-zero Critical Entry Time is 3 days, for each remaining (non-intra-SCF) 3-digit ZIP Code origin-destination pair within a Network Distribution Center service area, where the origin and destination are within the contiguous 48 states and are not served by an Auxiliary Service Facility; and for mail between the territories of Puerto Rico and the U.S. Virgin Islands.

(3) The service standard for intra-Network Distribution Center (NDC) Package Services mail accepted at origin before the day-zero Critical Entry Time is 4 days for each remaining 3-digit ZIP Code origin-destination pair within a Network Distribution Center service area, where the destination delivery address is served by an Auxiliary Service Facility; the same standard applies to all remaining intra-Alaska mail and mail between the state of Hawaii and the territory of Guam.

* * * * *

(6) The service standard for Inbound Surface Parcel Post® pieces (subject to Universal Postal Union rates) is the same as the service standard for domestic Package Services mail from the 3-digit ZIP Code area in which the International Service Center is located to the 3-digit ZIP Code in which the delivery address is located.

(b) * * *

(3) Package Services mail that qualifies for a Destination Network Distribution Center (DNDC) rate, which is accepted before the day-zero Critical Entry Time at the proper DNDC or Destination Auxiliary Service Facility, and that originates and destinates in the contiguous 48 states, has a 3-day service standard. Mail that qualifies for a Destination Sectional Center Facility (DSCF) discount, and that is accepted before the day-zero Critical Entry Time at the SCF in the territory of Puerto Rico, has a 3-day service standard if it is destined for the territory of the U.S. Virgin Islands.

(4) Package Services mail that qualifies for a Destination Network Distribution Center (DNDC) rate, and that is accepted before the day-zero Critical Entry Time at the proper DNDC in the contiguous 48 states for delivery to addresses in the states of Alaska or Hawaii, or the territories of Guam, Puerto Rico, or the U.S. Virgin Islands has a service standard of either 7 or 8 days, depending on the 3-digit ZIP Code origin-destination pair. For each such pair, the applicable day within the range is based on the number of days required for transportation outside of the 48 contiguous states.

7. In Appendix A to Part 121, revise Table 3 and 4 to read as follows:

Appendix A to Part 121—Tables Depicting Service Standard Day Ranges

* * * * *

Table 3—Destination Entry Service Standard Day Ranges for Mail to the 48 Contiguous States and the District of Columbia
Mail class | Destination entry (at appropriate facility): DDU (days) | Destination entry (at appropriate facility): SCF (days) | Destination entry (at appropriate facility): ADC (days) | Destination entry (at appropriate facility): NDC (days)
CONTIGUOUS UNITED STATES
Periodicals | 1 | 1 | 1-2 | 1-2
Standard Mail | 2 | 3 | 5 |
Package Services | 1 | 2 | 3 |

Table 4—Destination Entry Service Standard Day Ranges for Mail to the States of Alaska and Hawaii, and the Territories of Guam, Puerto Rico and the U.S. Virgin Islands
Mail class | Destination entry (at appropriate facility): DDU (days) | Destination entry (at appropriate facility): SCF (days): Alaska | Destination entry (at appropriate facility): SCF (days): Hawaii & Guam | Destination entry (at appropriate facility): SCF (days): Puerto Rico & USVI | Destination entry (at appropriate facility): ADC (days): Alaska | Destination entry (at appropriate facility): ADC (days): Hawaii & Guam | Destination entry (at appropriate facility): ADC (days): Puerto Rico & USVI | Destination entry (at appropriate facility): NDC (days): Alaska | Destination entry (at appropriate facility): NDC (days): Hawaii & Guam | Destination entry (at appropriate facility): NDC (days): Puerto Rico & USVI
ALASKA, HAWAII & GUAM, PUERTO RICO & USVI
Periodicals | 1 | 1-2 | 1 | 1-2 | 1-3 (AK) 7 (JNU) 7 (KTN) | 1 (HI) 7 (GU) | 1-2 | 1-2 | 6-7 | 5-6
Standard Mail | 2 | 3 | 3 | 3-4 | 10 | 10 | 9 |  |  |
Package Services | 1 | 2 | 2 | 2-3 | 8 | 8 | 7 |  |  |
AK = Alaska 3-digit ZIP Codes 995-997; JNU = Juneau AK 3-digit ZIP Code 998; KTN = Ketchikan AK 3-digit ZIP Code 999; HI = Hawaii 3-digit ZIP Codes 967 and 968; GU = Guam 3-digit ZIP Code 969.

Neva R. Watson,
Attorney, Legislative.

[FR Doc. 2010-4172 Filed 3-1-10; 8:45 am]

BILLING CODE 7710-12-P